DEPARTMENT OF COMMERCE

National Oceanic and Atmospheric Administration

50 CFR Part 226

RIN 0648-BA81

Endangered and Threatened Wildlife and Plants; Public Hearings for Proposed Rulemaking To Revise Critical Habitat for Hawaiian Monk Seals

AGENCY: Commerce, National Oceanic and Atmospheric Administration (NOAA), National Marine Fisheries Service (NMFS).

ACTION: Notice of public hearings.

SUMMARY: We, National Marine Fisheries Service (NMFS), are announcing six public hearings to be held for the proposed rule to revise critical habitat for the Hawaiian monk seal, which was published in the Federal Register on June 2, 2011. See SUPPLEMENTARY INFORMATION for meeting dates and locations. As noted in the proposed rule, we will consider written comments received on or before August 31, 2011.

ADDRESSES:

See SUPPLEMENTARY INFORMATION for meeting dates and locations. You may submit written comments on the proposed rule identified by 0648-BA81 by any one of the following methods:

• Electronic Submissions: Federal eRulemaking Portal: http://www.regulations.gov. Follow the instructions for submitting comments.

• Mail or hand-delivery: Submit written comments to Regulatory Branch Chief, Protected Resources Division, National Marine Fisheries Service, Pacific Islands Regional Office, 1601 Kapiolani Blvd., Suite 1110, Honolulu, HI, 96814, Attn.: Hawaiian monk seal proposed critical habitat.

Instructions: Comments must be submitted to one of these two addresses to ensure that the comments are received, documented, and considered by NMFS. Comments sent to any other address or individual, or received after the end of the comment period, may not be considered. All comments received are a part of the public record and will generally be posted to http://www.regulations.gov without change. All Personal Identifying Information (e.g., name, address) voluntarily submitted by the commenter may be publicly accessible. Do not submit Confidential Business Information or otherwise sensitive or protected information. We will accept anonymous comments (enter “NA” in the required fields if you wish to remain anonymous). Attachments to electronic comments will be accepted in Microsoft Word, Excel, WordPerfect, or Adobe PDF file formats only. The petition, 90-day finding, 12-month finding, draft biological report, draft economic analysis report, draft ESA 4(b)(2) report, and other reference materials regarding this determination can be obtained via the NMFS Pacific Islands Regional Office Web site: http://www.fpir.noaa.gov/PRD/prd_critical_habitat.html or by submitting a request to the Regulatory Branch Chief, Protected Resources Division, National Marine Fisheries Service, Pacific Islands Regional Office, 1601 Kapiolani Blvd., Suite 1110, Honolulu, HI 96814, Attn: Hawaiian monk seal proposed critical habitat. Background documents on the biology of the Hawaiian monk seal, the July 2, 2008, petition requesting revision of its critical habitat, and documents explaining the critical habitat designation process, can be downloaded from http://www.fpir.noaa.gov/PRD/prd_critical_habitat.html, or requested by phone or e-mail from the NMFS staff in Honolulu (area code 808) listed under FOR FURTHER INFORMATION CONTACT.

FOR FURTHER INFORMATION CONTACT: Jean Higgins, NMFS, Pacific Islands Regional Office, (808) 944-2157; Lance Smith, NMFS, Pacific Islands Regional Office, (808) 944-2258; or Marta Nammack, NMFS, Office of Protected Resources (301) 427-8403.

SUPPLEMENTARY INFORMATION:

Background

In the notice of the proposed rulemaking, we propose to revise the current critical habitat for the Hawaiian monk seal (Monachus schauinslandi) by extending the current designation in the Northwestern Hawaiian Islands (NWHI) out to the 500-meter (m) depth contour and including Sand Island at Midway Islands; and by designating six new areas in the main Hawaiian Islands (MHI), pursuant to section 4 of the Endangered Species Act (ESA). Specific areas proposed for the MHI include terrestrial and marine habitat from 5 m inland from the shoreline extending seaward to the 500-m depth contour around: Kaula Island, Niihau, Kauai, Oahu, Maui Nui (including Kahoolawe, Lanai, Maui, and Molokai), and Hawaii (except those areas that have been identified as not included in the designation). We propose to exclude the following areas from designation because the national security benefits of exclusion outweigh the benefits of inclusion, and exclusion will not result in extinction of the species: Kingfisher Underwater Training area in marine areas off the northeast coast of Niihau; Pacific Missile Range Facility Main Base at Barking Sands, Kauai; Pacific Missile Range Facility Offshore Areas in marine areas off the western coast of Kauai; the Naval Defensive Sea Area and Puuloa Underwater Training Range in marine areas outside Pearl Harbor, Oahu; and the Shallow Water Minefield Sonar Training Range off the western coast of Kahoolawe in the Maui Nui area. In addition we are soliciting comments on all aspects of the proposal, including information on the economic, national security, and other relevant impacts. We will consider additional information received prior to making a final decision on critical habitat designation.

Public Hearings

Joint Commerce-Interior ESA implementing regulations state that the Secretary of Commerce shall promptly hold at least one public hearing if any person requests one with 45 days of publication of a proposed regulation to list a species or to designate critical habitat (see 50 CFR 424.16 (c)(3)). To allow the public an opportunity to provide comment on the proposed rule, we will hold six public hearings. We will accept oral and written comments on the proposed rule to revise Hawaiian monk seal critical habitat (76 FR 32026; June 2, 2011) during these hearings as described in this notice.

Dates and Locations of the Hearings

August 8, 2011—Mitchell Pauole Center, 90 Ainoa Street, Kaunakakai, Molokai 96748—5:30-8 p.m.

August 9, 2011—Kihei Community Center, 303 E. Lipoa Street, Kihei, Maui 96753—5:30-8 p.m.

August 10, 2011—Kauai War Memorial Convention Hall, 4191 Hardy Street, Lihue, Kauai 96766—5:30-8 p.m.

August 11, 2011—McCoy Pavilion at Ala Moana Park, 1201 Ala Moana Blvd., Honolulu, Oahu 96814—5:30-8 p.m.

August 15, 2011—Mokupapapa Discovery Center, 308 Kamehameha Avenue, Suite 109, Hilo, Hawaii 96720—5:30-8 p.m.

August 16, 2011—Kahakai Elementary School, 76-147 Royal Poinciana Drive, Kailua Kona, Hawaii 96740—6:30-9 p.m.

Oral and written comments on the proposed rule to revise Hawaiian monk seal critical habitat (76 FR 32026; June 2, 2011) received during these hearings will be part of the administrative record. People wishing to make an oral statement for the record at a public hearing are encouraged to provide a written copy of the statement and present it to us at the hearing. In the event that attendance at the public hearings is large, the time allotted for oral statements may be limited. Oral and written statements receive equal consideration. There are no limits on the length of written comments submitted to us.

Special Accommodations

These meetings are physically accessible to people with disabilities. Persons requesting sign language interpretation or other reasonable accommodations to participate in the public meetings should contact Jean Higgins (808) 944-2157. To allow sufficient time to process requests, please call not later than 5 p.m. on July 28, 2011.

Authority: 16 U.S.C. 1533 et seq.

Dated: July 11, 2011.
James H. Lecky,
Director, Office of Protected Resources, National Marine Fisheries Service.

[FR Doc. 2011-17763 Filed 7-13-11; 8:45 am]

BILLING CODE 3510-22-P